DEPARTMENT OF LABOR

Employment and Training Administration

Comment Request for Information Collection for Job Corps Placement and Assistance Record, Extension Without Revisions

AGENCY: Employment and Training Administration (ETA), Labor.

ACTION: Notice.

SUMMARY: The Department of Labor (Department), as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps ensure that requested data can be provided in the desired format, reporting burden (time and financial resources) is minimized, collection instruments are clearly understood, and the impact of collection requirements on respondents can be properly assessed.

Currently, ETA is soliciting comments concerning the collection of data about Job Corps Placement Record [OMB Control No. 1205-0035, expires January 2014]: ETA 678 form, Job Corps Placement and Assistance Record. ETA form 678 currently captures information about a student's training and subsequent placement in a job, higher education or the military, as well as the name of the placement provider agency. Data generated from the form ETA 678 is used to evaluate overall placement outcomes. This form is critical to the program's evaluation process. It is the only form which documents a student's post-center placement status. This form is completed by either a Job Corps center records staff or a Career Transition Specialist for each student. Job Corps is not proposing any changes to ETA 678 form, Job Corps Placement Record.

A copy of the proposed Information Collection Request (ICR) can be obtained by contacting the office listed below in the addressee section of this notice.

DATES: Written comments must be submitted to the office listed in the addressee's section below on or before October 7, 2013.

ADDRESSES: Submit written comments to Marcus Gray, Office of Job Corps, Room N-4463, Employment and Training Administration, U.S. Department of Labor, 200 Constitution Avenue NW., Washington, DC 20210. Telephone number: 202-693-3967 (this is not a toll-free number). Individuals with hearing or speech impairments may access the telephone number above via TTY by calling the toll-free Federal Information Relay Server at 877-889-5627 (TTY/TDD). Fax: 202-693-2767; email: gray.marcus@dol.gov. A copy of the proposed ICR can be obtained by contacting the person listed above.

SUPPLEMENTARY INFORMATION:

I. Background

Job Corps is the nation's largest residential, educational, and career technical training program for young Americans. Job Corps was established in 1964 by the Economic Opportunity Act, and currently is authorized by Title I-C of the Workforce Investment Act of 1998.

For almost 50 years, Job Corps has helped prepare a total of nearly 3 million at-risk young people ages 16 to 24 for success in our nation's workforce. With 125 centers in 48 states, Puerto Rico, and the District of Columbia, Job Corps assists students across the nation in attaining academic credentials, including a High School Diploma (HSD) and/or High School Equivalency credential, and career technical training, including industry-recognized credentials, state licensures, and pre-apprenticeship credentials.

Job Corps is administered by the Department through the Office of Job Corps and six Regional Offices. The Department awards and administers contracts for the recruiting and screening of new students, center operations, and the placement and transitional support of graduates and former enrollees. Large and small corporations and nonprofit organizations manage and operate 97 Job Corps centers under contractual agreements with the Department. These contract Center Operators are selected through a competitive procurement process that evaluates potential operators' technical expertise, proposed costs, past performance, and other factors, in accordance with the Competition in Contracting Act and the Federal Acquisition Regulations.

The remaining 28 Job Corps centers, called Civilian Conservation Centers, are operated by the U.S. Forest Service, via an interagency agreement. The Department has a direct role in the operation of Job Corps, and does not serve as a pass-through agency for this program.

II. Review Focus

The Department is particularly interested in comments which:

• Evaluate whether the proposed collection of information is necessary for the proper performance of the agency's function, including whether the information has practical utility;

• Evaluate the accuracy of the agency's estimate of the burden of the proposed collection of information, including the validity of the methodology and assumptions used;

• Enhance the quality, utility, and clarity of the information to be collected; and

• Minimize the burden of the collection of information on those who are to respond, by encouraging the use of appropriate automated, electronic, mechanical, or other technological collection techniques or other forms of information technology, e.g., permitting electronic submissions of responses.

III. Current Actions

Type of Review: Extension

Title: Job Corps Placement Record

OMB Number: Control No. 1205-0035

Affected Public: Individuals or Households (Job Corps students) and Private Sector—(Job Corps centers)

Form(s): ETA 678

Total Annual Respondents: 34,000

Annual Frequency: Once (when placement occurs)

Total Annual Responses: 34,000

Average Time per Response: 7.43 minutes

Estimated Total Annual Burden Hours: 4,210

Total Annual Other Burden Costs for Respondents: $0

Comments submitted in response to this comment request will be summarized and included in the request for Office of Management and Budget approval of the information collection request; they will also become a matter of public record.

Dated: July 31, 2013.
Eric M. Seleznow,
Acting Assistant Secretary.

[FR Doc. 2013-19061 Filed 8-6-13; 8:45 am]

BILLING CODE 4510-FT-P